DEPARTMENT OF HOMELAND SECURITY

Coast Guard

33 CFR Part 165

[Docket No. USCG-2020-0391]

Safety Zones; Annual Firework Displays Within the Captain of the Port, Puget Sound Area of Responsibility

AGENCY: Coast Guard, DHS.

ACTION: Notice of enforcement of regulation.

SUMMARY: The Coast Guard will enforce five safety zones for annual firework displays in the Captain of the Port, Puget Sound Zone during the dates and times noted under SUPPLEMENTARY INFORMATION. This action is necessary to prevent injury and to protect life and property of the maritime public from hazards associated with the firework displays. During the enforcement periods, entry into, transit through, mooring, or anchoring within these safety zones is prohibited unless authorized by the Captain of the Port, Puget Sound or their Designated Representative.

DATES: The regulations in 33 CFR 165.1332 will be enforced for the five safety zones identified in the SUPPLEMENTARY INFORMATION section below from 5 p.m. on July 4, 2020, until 1 a.m. on July 5, 2020.

FOR FURTHER INFORMATION CONTACT: If you have questions about this notice of enforcement, call or email Chief Warrant Officer William E. Martinez, Sector Puget Sound Waterways Management Division, U.S. Coast Guard; telephone 206-217-6051, email SectorPugetSoundWWM@uscg.mil.

SUPPLEMENTARY INFORMATION: The Coast Guard will enforce regulations in 33 CFR 165.1332 for five safety zones established for Annual Fireworks Displays within the Captain of the Port, Puget Sound Area of Responsibility. These regulations will be enforced from 5 p.m. on July 4, 2020, until 1 a.m. on July 5, 2020, at the following locations:

Event name | Location | Latitude | Longitude
Alderbrook Resort & Spa Fireworks | Hood Canal | 47°21.033′ N | 123°04.1′ W.
Sheridan Beach Community | Lake Forest Park | 47°44.783′ N | 122°16.917′ W.
Port Angeles | Port Angeles Harbor | 48°07.033′ N | 123°24.967′ W.
Friday Harbor Independence | Friday Harbor | 48°32.255′ N | 123°0.654′ W.
Roche Harbor Fireworks | Roche Harbor | 48°36.7′ N | 123°09.5′ W.

The special requirements listed in 33 CFR 165.1332(b) apply to the activation and enforcement of these safety zones. To seek permission from the Captain of the Port or their Designated Representative to enter any of these zones, you may contact the Coast Guard Sector Puget Sound Joint Harbor Operations Center (JHOC) on VHF Ch 16 or via telephone at (206) 217-6002. You may not enter the zone unless you have obtained that permission. The Coast Guard may be assisted by other Federal, State, or local law enforcement agencies in enforcing this regulation.

In addition to this notice of enforcement in the Federal Register, the Coast Guard plans to provide notification of this enforcement period via the Local Notice to Mariners.

Dated: June 27, 2020.
L.A. Sturgis,
Captain, U.S. Coast Guard, Captain of the Port Puget Sound.

[FR Doc. 2020-14326 Filed 7-1-20; 8:45 am]

BILLING CODE 9110-04-P